DEPARTMENT OF THE INTERIOR

Bureau of Ocean Energy Management, Regulation and Enforcement

[Docket No. MMS-2010-OMM-0008]

BOEMRE Information Collection Activity: 1010-0114, Subpart A—General, Revision of a Collection; Submitted for Office of Management and Budget (OMB) Review; Comment Request

AGENCY: Bureau of Ocean Management, Regulation and Enforcement (BOEMRE), Interior.

ACTION: Notice of an revision of an information collection (1010-0114).

SUMMARY: To comply with the Paperwork Reduction Act of 1995 (PRA), we are notifying the public that we have submitted to OMB an information collection request (ICR) to renew approval of the paperwork requirements in the regulations under 30 CFR part 250, subpart A—General, and related documents. This notice also provides the public a second opportunity to comment on the paperwork burden of these regulatory requirements.

DATES: Submit written comments by October 7, 2010.

ADDRESSES: Submit comments by either fax (202) 395-5806 or email (OIRA_DOCKET@omb.eop.gov) directly to the Office of Information and Regulatory Affairs, OMB, Attention: Desk Officer for the Department of the Interior (1010-0114). Please also submit a copy of your comments to BOEMRE by any of the means below.

• Electronically: go to http://www.regulations.gov. In the entry titled “Enter Keyword or ID,” enter docket ID MMS-2010-OMM-0008 then click search. Follow the instructions to submit public comments and view supporting and related materials available for this collection. The BOEMRE will post all comments.

• Email cheryl.blundon@mms.gov. Mail or hand-carry comments to: Department of the Interior; Bureau of Ocean Management, Regulation and Enforcement; Attention: Cheryl Blundon; 381 Elden Street, MS-4024; Herndon, Virginia 20170-4817. Please reference ICR 1010-0114 in your comment and include your name and return address.

FOR FURTHER INFORMATION CONTACT: Cheryl Blundon, Regulations and Standards Branch, (703) 787-1607. You may also contact Cheryl Blundon to obtain a copy, at no cost, of the regulations and forms that require the subject collection of information.

SUPPLEMENTARY INFORMATION:

Title: 30 CFR 250, subpart A—General.

Forms: MMS-132, MMS-143, MMS-1123, and MMS-1832.

OMB Control Number: 1010-0114.

Abstract: The Outer Continental Shelf (OCS) Lands Act, as amended (43 U.S.C. 1331 et seq. and 43 U.S.C. 1801 et seq.), authorizes the Secretary of the Interior to prescribe rules and regulations to manage the mineral resources of the OCS. Such rules and regulations will apply to all operations conducted under a lease, right-of-use and easement, or pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

Section 1352 further requires that certain costs be reimbursed to the parties submitting required geological and geophysical (G&G) information and data. Under the Act, permittees are to be reimbursed for the costs of reproducing any G&G data required to be submitted. Permittees are to be reimbursed also for the reasonable cost of processing geophysical information required to be submitted when processing is in a form or manner required by the Director and is not used in the normal conduct of the business of the permittee.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, Bureau of Ocean Energy Management, Regulation and Enforcement (BOEMRE) is required to charge fees for services that provide special benefits or privileges to an identifiable non-Federal recipient above and beyond those which accrue to the public at large. Several requests for approval required in subpart A are subject to cost recovery, and BOEMRE regulations specify service fees for these requests.

This ICR also covers the related Notices to Lessees and Operators (NTLs) that BOEMRE issues to clarify and provide additional guidance on some aspects of our regulations.

Regulations implementing these responsibilities are under 30 CFR part 250, subpart A. Responses are mandatory. Requests for BOEMRE approval may contain proprietary information related to performance standards or alternative approaches to conducting operations different from those approved and specified in BOEMRE regulations. We will protect this proprietary information according to the Freedom of Information Act, (5 U.S.C. 552), its implementing regulations (43 CFR 2), 30 CFR part 252, and 30 CFR 250.197, Data and information to be made available to the public or for limited inspection.

The BOEMRE uses the information collected under the subpart A regulations to ensure that operations on the OCS are carried out in a safe and pollution-free manner, do not interfere with the rights of other users on the OCS, and balance the protection and development of OCS resources. Specifically, we use the information collected to:

• Review records of formal crane operator and rigger training, crane operator qualifications, crane inspections, testing, and maintenance to ensure that lessees/operators perform operations in a safe and workmanlike manner and that equipment is maintained in a safe condition. The BOEMRE also uses the information to make certain that all new and existing cranes installed on OCS fixed platforms must be equipped with anti-two block safety devices, and to assure that uniform methods are employed by lessees for load testing of cranes.

• Review welding plans, procedures, and records to ensure that welding is conducted in a safe and workmanlike manner by trained and experienced personnel.

• Provide lessees/operators greater flexibility to comply with regulatory requirements through approval of alternative equipment or procedures and departures to regulations if they demonstrate equal or better compliance with the appropriate performance standards.

• Determine the capability of a well to produce oil or gas in paying quantities or to determine the possible need for additional wells resulting in minimum royalty status on a lease. If a well does not yield hydrocarbons in sufficient quantity to warrant continued operation and production, BOEMRE uses the information to verify the claim and to release the lessee from lease obligations. Conversely, the information is used to extend the term of the lease if additional wells will warrant continued operation and production.

• Ensure that injection of gas promotes conservation of natural resources, prevents waste, and that subsurface storage of natural gas does not unduly interfere with development and production operations under existing leases.

• Record the designation of an operator authorized to act on behalf of the lessee and to fulfill the lessee's obligations under the OCS Lands Act and implementing regulations, or to record the local agent empowered to receive notices and comply with regulatory orders issued (Form MMS-1123). This form requires the respondent to submit general information such as lease number, name, address, company number of designated operator, and signature of the authorized lessee.

• Determine if an application for right-of-use and easement complies with the OCS Lands Act, other applicable laws, and BOEMRE regulations; and does not unreasonably interfere with the operations of any other lessee.

• Provide for orderly development of leases through the use of information to determine the appropriateness of lessee/operator requests for suspension of operations, including production.

• Improve safety and environmental protection on the OCS through collection and analysis of accident reports to ascertain the cause of the accidents and to determine ways to prevent recurrences.

• Ascertain when the lease ceases production or when the last well ceases production in order to determine the 180th day after the date of completion of the last production. The BOEMRE will use this information to efficiently maintain the lessee/operator lease status.

• Approve requests to cancel leases.

• Be informed when there could be a major disruption in the availability and supply of natural gas and oil due to natural occurrences/hurricanes, to advise the U.S. Coast Guard in case of the need to rescue offshore workers in distress, to monitor damage to offshore platforms and drilling rigs, and to advise the news media and interested public entities when production is shut in and when resumed. The Gulf of Mexico OCS Region (GOMR) uses a reporting form, MMS-132, Evacuation Statistics, for respondents to report evacuation statistics when necessary. This form requires the respondent to submit general information such as company name, contact, date, time, telephone number, as well as number of platforms and drilling rigs evacuated and not evacuated. We also require production shut-in statistics for oil (BOPD) and gas (MMSCFD).

• Form MMS-143, Facility/Equipment Damage Report, assists lessees, lease operators, and pipeline right-of-way holders when reporting damage by a hurricane, earthquake, or other natural phenomenon. They are required to submit an initial damage report to the Regional Supervisor within 48 hours after completing the initial evaluation of the damage and then, subsequent reports, monthly and immediately, whenever information changes until the damaged structure or equipment is returned to service.

• Allow lessees/operators who exhibit unacceptable performance an incremental approach to improving their overall performance prior to a final decision to disqualify a lessee/operator or to pursue debarment proceedings through the execution of a performance improvement plan (PIP). The subpart A regulations do not address the actual process that we will follow in pursuing the disqualification of operators under §§ 250.135 and 250.136. However, our internal enforcement procedures include allowing such operators to demonstrate a commitment to acceptable performance by the submission of a PIP.

• Determine that respondents have corrected all Incidents of Non-Compliance (INC)(s), Form MMS-1832, identified during inspections. The BOEMRE issues this form to the operator and the operator then corrects the INC(s), signs and returns the form to the BOEMRE Regional Supervisor within 14 days of issuance.

Frequency: Primarily on occasion; monthly; and Form MMS-132, Evacuation Statistics is submitted daily during an emergency situation.

Description of Respondents: Potential respondents comprise Federal and State oil, gas, or sulphur lessees and/or operators.

Estimated Reporting and Recordkeeping Hour Burden: The estimated annual hour burden for this information collection is a total of 44,413 hours. The following chart details the individual components and estimated hour burdens. In calculating the burdens, we assumed that respondents perform certain requirements in the normal course of their activities. We consider these to be usual and customary and took that into account in estimating the burden.

Citation 30 CFR 250 subpart A and related forms/NTLs | Reporting or recordkeeping requirement | Non-hour cost burdens: Hour burden | Non-hour cost burdens: Average number of annual responses | Non-hour cost burdens: Annual burden hours
Authority and Definition of Terms
104; 181; Form MMS-1832 | Appeal orders or decisions; appeal INCs; request hearing due to cancellation of lease | Exempt under 5 CFR 1320.4(a)(2), (c). |  | 0
Performance Standards
109(a); 110 | Submit welding, burning, and hot tapping plans | 2 | 54 plans | 108
115; 116 | Request determination of well producibility; make available or submit data and information; notify BOEMRE of test | 5 | 90 responses | 450
118; 119; 121; 124 | Apply for injection or subsurface storage of gas; sign storage agreement | 10 | 7 applications | 70
Subtotal | 151 responses | 628
Cost Recovery Fees
125; 126 | Cost Recovery Fees; confirmation receipt etc; verbal approvals pertaining to fees | Cost Recovery Fees and related items are covered individually throughout this subpart. |  | 0
Forms
130-133; Form MMS-1832 | Submit “green” response copy of Form MMS-1832 indicating date violations (INCs) corrected | 2 | 931 forms | 1,862
143 | Report change of address; submit designation of local agent | Not considered information collection under 5 CFR 1320.3(h)(1). |  | 0
143; 144; 145; Form MMS-1123 | Submit designation of operator (Form MMS-1123—form takes 15 minutes); report change of address; notice of termination; submit designation of local agent; include pay.gov confirmation receipt | 1 | 840 forms | 840
|  | $164 fee × 840 = $137,760 *
186(a)(3); NTL | Apply to receive administrative entitlements to eWell (electronic/digital form submittals) | Not considered information collection under 5 CFR 1320.3(h)(1). |  | 0
192; Form MMS-132 | Daily report of evacuation statistics for natural occurrence/hurricane (Form MMS-132 (form takes 1 hour) in the GOMR) when circumstances warrant; inform BOEMRE when you resume production | 1.5 | 1,950 reports or forms | 2,925
192(b) | Use Form MMS-143 to submit an initial damage report to the Regional Supervisor | 3 | 133 forms | 399
192(b) | Use Form MMS-143 to submit subsequent damage reports on a monthly basis until damaged structure or equipment is returned to service; immediately when information changes; date item returned to service must be in final report | 1 | 133 forms | 133
Subtotal | 3,987 responses | 6,159
| $137,760 non-hour cost burden
Inspection of Operations
130-133 | Request reconsideration from issuance of an INC | 2 | 178 requests | 356
| Request waiver of 14-day response time | 1 | 274 waivers | 274
| Notify BOEMRE before returning to operations if shut-in | 1 | 698 notices | 698
133 | Request reimbursement for food, quarters, and transportation provided to BOEMRE representatives (no requests received in many years; minimal burden) | 1.5 | 15 requests | ¹ 23
Subtotal | 1,165 responses | 1,351
Disqualification
135 BOEMRE internal process | Submit PIP under BOEMRE implementing procedures for enforcement actions | 40 | 4 plans | 160
Subtotal | 4 responses | 160
Special Types of Approval
140 | Request various oral approvals not specifically covered elsewhere in regulatory requirements | 1 | 360 requests | 360
140(c) | Submit letter when stopping approved flaring with required information | Burden covered under 1010-0041. |  | 0
141; 198 | Request approval to use new or alternative procedures, including BAST not specifically covered elsewhere in regulatory requirements | 20 | 590 requests | 11,800
142; 198 | Request approval of departure from operating requirements not specifically covered elsewhere in regulatory requirements | 2.5 | 1,052 requests | 2,630
Subtotal | 2,002 responses | 14,790
Naming and Identifying Facilities and Wells (Does Not Include MODUs)
150; 151; 152; 154(a) | Name and identify facilities, artificial islands, MODUs, helo landing facilities etc., with signs | 3 | 585 new/replacement signs | 1,755
150; 154(b) | Name and identify wells with signs | 2 | 188 new wells | 376
Subtotal | 773 responses | 2,131
Right-of-use and Easement
160; 161; 123 | OCS lessees: Apply for new or modified right-of-use and easement to construct and maintain off-lease platforms, artificial islands, and installations and other devices; include notifications | 9 | 26 applications | 234
160(c) | Establish a Company File for qualification; submit updated information, submit qualifications for lessee/bidder, request exception | Burden covered under 1010-0006. |  | 0
165; 123 | State lessees: Apply for new or modified right-of-use and easement to construct and maintain off-lease platforms, artificial islands, and installations and other devices; include pay.gov confirmation | 5 | 1 application | 5
|  | $2,569 state lease fee × 1 = $2,569
166 | State lessees: Furnish surety bond; additional security if required | Burden covered under 30 CFR 256 (1010-0006). |  | 0
Subtotal | 27 responses | 239
| $2,569 non-hour cost burden
Suspensions
168; 170; 171; 172; 174; 175; 177; 180(b), (d) | Request suspension of operation or production; submit schedule of work leading to commencement; supporting information; include pay.gov confirmation receipt | 10 | 595 requests | 5,950
|  | $1,968 fee × 595 = $1,170,960 *
| Submit progress reports on SOO or SOP as condition of approval | 3 | 703 reports | 2,109
172(b); 177(a) | Conduct site-specific study; submit results. No instances requiring this study in several years—could be necessary if a situation occurred such as severe damage to a platform or structure caused by a hurricane or a vessel collision | 100 | 1 study/report | 100
177(b), (c), (d); 182; 183, 185; 194 | Various references to submitting new, revised, or modified exploration plan, development/production plan, or development operations coordination document, and related surveys/reports | Burden covered under 1010-0151. |  | 0
Subtotal | 1,299 responses | 8,159
| $1,170,960 non-hour cost burden.
Primary Lease Requirements, Lease Term Extensions, and Lease Cancellations
180(a), (h), (i), | Notify and submit report on various leaseholding operations and lease production activities | 2 | 53 reports or notices | 106
180(f), (g), (h), (i) | Submit various operations and production data to demonstrate production in paying quantities to maintain lease beyond primary term; notify BOEMRE when you begin conducting operations beyond its primary term | 2 | 404 submissions/notifications | 808
|  | .5 |  | 202
180(e), (j) | Request more than 180 days to resume operations; notify BOEMRE if operations do not begin within 180 days | 4 | 88 requests/notifications | 352
|  | .5 |  | 44
181(d); 182(b), 183(b)(2) | Request termination of suspension and cancellation of lease (no requests in recent years for termination/cancellation of a lease; minimal burden) | 20 | 1 request | 20
184 | Request compensation for lease cancellation mandated by the OCS Lands Act (no qualified lease cancellations in many years; minimal burden compared to benefit) | 50 | 1 request | 50
Subtotal | 547 responses | 1,582
Information and Reporting Requirements
186; NTL | Submit information and reports as BOEMRE requires | 10 | 200 | 2,000
187; 188(a-b); 189; 190(a-c); 192; NTL | Report to the District Manager immediately via oral communication and written follow-up within 15 calendar days, incidents pertaining to: Fatalities; injuries; LoWC; fires; explosions; all collisions resulting in property or equipment damage >$25K; structural damage to an OCS facility; cranes; incidents that damage or disable safety systems or equipment (including firefighting systems); include hurricane reports such as platform/rig evacuation, rig damage, P/L damage, and platform damage; operations personnel to muster for evacuation not related to weather or drills; any additional information required. If requested, submit copy marked as public information | Oral .5 | 898 | 449
|  | Written 2.5 | 950 | 2,375
187(d) | Report all spills of oil or other liquid pollutants | Burden covered under 30 CFR 254 (1010-0091). |  | 0
188(a)(5) | Report to District Manager hydrogen sulfide (H2S) gas releases immediately by oral communication | Burden covered under 1010-0141. |  | 0
191 | Submit written statement/Request compensation mileage and services for testimony re: accident investigation | Exempt under 5 CFR 1320.4(a)(2), (c). |  | 0
193 | Report apparent violations or non-compliance | 1.5 | 6 reports | 9
194; NTL | Request departures from conducting archaeological resources surveys and/or submitting reports in GOMR | 1 | 2 requests | 2
194(c) | Report archaeological discoveries | 2 | 12 reports | 24
195 | Notify District Manager within 5 workdays of putting well in production status (usually oral). Follow-up with either fax/email within same 5 day period (burden includes oral and written) | 1 | 188 notifications | 188
196 | Submit data/information for post-lease G&G activity and request reimbursement | Burden covered under 30 CFR 251 (1010-0048). |  | 0
197(c) | Submit confidentiality agreement | 1 | 1 | 1
101-199 | General departure or alternative compliance requests not specifically covered elsewhere in Subpart A | 2 | 21 requests | 42
Subtotal | 2,278 responses | 5,090
Recordkeeping
108(e) | Retain records of design and construction for life of crane, including installation records for any anti-two block safety devices; all inspection, testing, and maintenance for at least 4 years; crane operator and all rigger personnel qualifications for at least 4 years | 1.5 | 2,151 recordkeepers | ¹ 3,227
109(b); 113(c) | Retain welding plan and drawings of safe-welding areas at site; designated person advises in writing that it is safe to weld | 1 | 637 operations | 637
132(b)(3) | During inspections make records available as requested by inspectors | 2 | 130 lessees/operators | 260
Subtotal | 2,918 responses | 4,124
Total Burden | 15,151 responses | 44,413
| $1,311,289 Non-Hour Cost Burdens.
* Cost recovery monies collected are based on actual submittals through Pay.gov for FY 2009.
¹ Rounded.

Estimated Reporting and Recordkeeping Non-Hour Cost Burden: We have identified three non-hour cost burdens. Section 250.143 requires respondents to pay a cost recovery fee for a change in designation of operator. Section 250.165 requires a State lessee applying for a right-of-use and easement on the OCS to pay a cost recovery application fee. This cost is the same as the fee for a pipeline right-of-way grant specified in § 250.1015 and is subject to change based on that regulation. We estimate receiving only one application per year. Section 250.171 requests a cost recovery fee for either a Suspension of Operations or Production Request (SOO/SOP). We have not identified any other non-hour cost burden associated with this collection of information. We estimate a total reporting non-hour cost burden of $1,311,289.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 22, 2010, we published a Federal Register notice (75 FR 13563) announcing that we would submit this ICR to OMB for approval. The notice provided the required 60-day comment period. In addition, § 250.199 provides the OMB control number for the information collection requirements imposed by the 30 CFR 250 regulations and the forms. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by October 7, 2010.

Public Availability of Comments: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: August 30, 2010
Doug Slitor,
Acting Chief, Office of Offshore Regulatory Programs.

[FR Doc. 2010-22192 Filed 9-3-10; 8:45 am]

BILLING CODE 4310-MR-P